FEDERAL MARITIME COMMISSION

Agency Information Collection Activities: Submission for OMB Review; Comment Request

AGENCY: Federal Maritime Commission.

ACTION: Notice and request for comment.

SUMMARY: The Federal Maritime Commission (Commission) is giving public notice that the agency has submitted to the Office of Management and Budget (OMB) for approval the continuing information collection (reinstatement with change) described in this notice. The public is invited to comment on the proposed information collection pursuant to the Paperwork Reduction Act of 1995.

DATES: Written comments must be submitted at the addresses below on or before November 25, 2020.

ADDRESSES: Comments should be addressed to: Office of Information and Regulatory Affairs, Office of Management and Budget, Attention: Shannon Joyce, Desk Officer for Federal Maritime Commission, 725 17th Street NW, Washington, DC 20503, OIRA_Submission@OMB.EOP.GOV, Fax (202) 395-5167, and to: Karen V. Gregory, Managing Director, OMD@fmc.gov.

FOR FURTHER INFORMATION CONTACT: Copies of the submission(s) may be obtained by contacting Donna Lee at 202-523-5800 or email: omd@fmc.gov.

SUPPLEMENTARY INFORMATION:

Request for Comment

Pursuant to the Paperwork Reduction Act of 1995 (44 U.S.C. 3501 et seq.), the Commission invites the general public and other Federal agencies to comment on the proposed information collection. On April 16, 2020, the Commission published a notice and request for comment in the Federal Register (85 FR 21233) regarding the agency's request for extension from OMB for this information collection as required by the Paperwork Reduction Act of 1995. The Commission received no comments on the request for extension of OMB approval. The subject information collection expired on May 31, 2020. The Commission has submitted the described information collection to OMB for reinstatement.

In response to this notice, comments and suggestions should address one or more of the following points: (1) The necessity and utility of the proposed information collection for the proper performance of the agency's functions; (2) the accuracy of the estimated burden; (3) ways to enhance the quality, utility, and clarity of the information to be collected; and (4) the use of automated collection techniques or other forms of information technology to minimize the information collection burden.

Information Collection Open for Comment

Title: 46 CFR part 540—Application for Certificate of Financial Responsibility/Form FMC-131.

OMB Approval Number: 3072-0012 (Expired May 31, 2020).

Abstract: Sections 2 and 3 of Public Law 89-777 (46 U.S.C. 44101-44106) require owners, charterers, or operators of passenger vessels with 50 or more passenger berths or stateroom accommodations and embarking passengers at United States ports and territories to establish their financial responsibility to meet liability incurred for death or injury to passengers and other persons, and to indemnify passengers in the event of nonperformance of transportation. The Commission's regulations at 46 CFR part 540 implement Public Law 89-777 and specify financial responsibility coverage requirements for such owners, charterers, or operators.

Current Actions: There are changes to this information collection, and it is being submitted for reinstatement and approval of changes. Twelve fields have been eliminated due to being captured on the financial instrument and we have reduced several questions regarding financial responsibility into two questions. Our intent is to make the form more intuitive and easier to use and understand. Additionally, information collected in a data format, as opposed to receiving this information in a narrative format, will assist us in analyzing the submissions.

Type of Review: Reinstatement with change.

Needs and Uses: The information will be used by the Commission's staff to ensure that passenger vessel owners, charterers, and operators have evidenced financial responsibility to indemnify passengers and others in the event of nonperformance or casualty.

Frequency: This information is collected when applicants apply for a certificate or when existing certificates change any information in their application forms.

Affected Public Who Will Be Asked or Required to Respond: Respondents are owners, charterers, or operators of passenger vessels with 50 or more passenger berths that embark passengers from U.S. ports or territories.

Number of Annual Respondents: The Commission estimates the total number of respondents at 52 annually.

Estimated Time per Response: The time per response ranges from 0.5 to 8 hours for reporting and recordkeeping requirements contained in the regulations, and 8 hours for completing Application Form FMC-131.

Total Annual Burden: The Commission estimates the total burden at 1,233 hours per year.

Rachel Dickon,
Secretary.

[FR Doc. 2020-23666 Filed 10-23-20; 8:45 am]

BILLING CODE 6730-02-P